DEPARTMENT OF TRANSPORTATION

Federal Aviation Administration

14 CFR Part 39

[Docket No. 2004-NE-10-AD; Amendment 39-14704; AD 2006-16-04]

RIN 2120-AA64

Airworthiness Directives; Rolls-Royce Corporation (Formerly Allison Engine Company, Allison Gas Turbine Division, and Detroit Diesel Allison) (RRC) 250-B and 250-C Series Turboshaft and Turboprop Engines

AGENCY: Federal Aviation Administration (FAA), DOT.

ACTION: Final rule.

SUMMARY: The FAA is superseding an existing airworthiness directive (AD) for RRC 250-B and 250-C series turboshaft and turboprop engines. That AD currently requires a onetime inspection of the fuel nozzle screen for contamination, and if contamination is found, inspection and cleaning of the entire aircraft fuel system before further flight. That AD also requires replacing the fuel nozzle with a new design fuel nozzle, at the next fuel nozzle overhaul or by June 30, 2006, whichever occurs first. This AD requires the same actions, but would add additional part numbers (P/Ns) to the list of affected fuel nozzles. This AD would also explain that the existing AD, as worded, allows certain part number (P/N) fuel nozzles back into service. Those fuel nozzles must not be allowed back into service. This AD is prompted by the discovery that several P/Ns of fuel nozzles were inadvertently left out of AD 2004-24-09. We are issuing this AD to minimize the risk of sudden loss of engine power and uncommanded shutdown of the engine due to fuel contamination and collapse of the screen in the fuel nozzle.

DATES: This AD becomes effective September 7, 2006.

ADDRESSES: You may examine the AD docket at the FAA, New England Region, Office of the Regional Counsel, 12 New England Executive Park, Burlington, MA.

FOR FURTHER INFORMATION CONTACT: John Tallarovic, Aerospace Engineer, Chicago Aircraft Certification Office, FAA, 2300 East Devon Avenue, Des Plaines, IL 60018-4696; telephone (847) 294-8180; fax (847) 294-7834.

SUPPLEMENTARY INFORMATION: The FAA proposed to amend 14 CFR part 39 with a proposed airworthiness directive (AD). The proposed AD applies to RRC 250-B and 250-C series turboshaft and turboprop engines. We published the proposed AD in the Federal Register on October 18, 2005 (70 FR 60453). That action proposed to require a onetime inspection of the fuel nozzle screen for contamination, and if contamination is found, inspection and cleaning of the entire aircraft fuel system before further flight. That AD also proposed to require replacing the fuel nozzle with a new design fuel nozzle, at the next fuel nozzle overhaul.

Examining the AD Docket

You may examine the AD Docket (including any comments and service information), by appointment, between 8 a.m. and 4:30 p.m., Monday through Friday, except Federal holidays. See ADDRESSES for the location.

Comments

We provided the public the opportunity to participate in the development of this AD. We have considered the comments received.

Listing of Rule in DMS

One commenter believes that we should have listed the proposed action in “dms”. We do not agree. Although the commenter did not define “dms,” the only relevant system is the Docket Management System (DMS). When we began this proposed rule early in 2004, we were not using the DMS and we could not list it in the system.

Change Goodrich Aerospace to Delavan

One commenter notes that Goodrich Aerospace acquired the company with the Parts Manufacturer Approval (PMA) cited in the proposed AD (Delavan) and suggests changing the name in the final rule. We agree and have changed the name to Goodrich Delavan (Delavan was misspelled in the proposed rule.)

Combine Tables 3 and 4

One commenter requests we combine Tables 3 and 4. The commenter believes that the nozzles listed in Table 3 manufactured under the PMA, which require an inspection within 50 operating hours, should be treated in the same manner as the nozzles listed in Table 4, which do not require an inspection until 150 operating hours. We do not agree. Operators have already inspected the nozzles listed in Table 4 under the requirements of AD 2004-24-09. After we published that AD, we found that we omitted some fuel nozzle part numbers from the list of parts requiring inspection. This proposed rule adds those omitted part numbers and includes both Rolls-Royce Corporation and PMA parts. Because we omitted these parts from AD 2004-24-09, operators have not inspected them yet. Based on that, we intentionally shortened the compliance time for inspecting them. We have not changed this AD.

Correct Applicability Errors

One commenter asks that we correct errors and omissions in the listing of aircraft models on which the affected engines are installed in Table 2. We agree and we have corrected this information in Table 2 and in the Applicability.

Change in Required Compliance Time

We have changed the compliance time required in paragraph (h) of the proposed rule from, “At the next fuel nozzle overhaul after the effective date of this AD, or by June 30, 2006, whichever occurs first * * *”, to “At the next fuel nozzle overhaul after the effective date of this AD * * *”, because the June 30, 2006 date has past.

Conclusion

We have carefully reviewed the available data, including the comments received, and determined that air safety and the public interest require adopting the AD with the changes described previously. We have determined that these changes will neither increase the economic burden on any operator nor increase the scope of the AD.

Costs of Compliance

We estimate that this AD will affect 10,000 engines installed on aircraft of U.S. registry. We also estimate that it will take about one work-hour per engine to perform the required actions, and that the average labor rate is $65 per work-hour. In addition, operators can either replace the fuel nozzle with a new one at a cost of about $2,595 or have the existing nozzle overhauled at a cost of about $850. We estimate that about 80 percent of the fuel nozzles will be overhauled and 20 percent will be replaced with a new nozzle. Therefore, we estimate that the required parts will cost, on average, about $1,200 per engine. Based on these figures, we estimate the total cost of the AD to U.S. operators to be $12,650,000.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2004-NE-10-AD” in your request.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13885 (69 FR 69807, December 1, 2004) and by adding a new airworthiness directive, Amendment 39-14704, to read as follows:

2006-16-04 Rolls-Royce Corporation (formerly Allison Engine Company, Allison Gas Turbine Division, and Detroit Diesel Allison): Amendment 39-14704. Docket No. 2004-NE-10-AD.

Effective Date

(a) This airworthiness directive (AD) becomes effective September 7, 2006.

Affected ADs

(b) This AD supersedes AD 2004-24-09, Amendment 39-13885.

Applicability

(c) This AD applies to Rolls-Royce Corporation (formerly Allison Engine Company, Allison Gas Turbine Division, and Detroit Diesel Allison) (RRC) 250-B and 250-C series turboshaft and turboprop engines in the following Table 1:

Table 1.—250-B and 250-C Series Turboshaft and Turboprop Engines Affected
-B15A
-B15E
-B15G
-B17
-B17B
-B17C
-B17D
-B17E
-B17F
-B17F/1
-B17F/2
-C10
-C10B
-C10D
-C18
-C18A
-C18B
-C18C
-C20
-C20B
-C20C
-C20F
-C20J
-C20R
-C20R/1
-C20R/2
-C20R/4
-C20S
-C20W
-C28
-C28B
-C28C
-C30
-C30G
-C30G/2
-C30M
-C30P
-C30R
-C30R/1
-C30R/3
-C30R/3M
-C30S
-C30U
-C40B
-C47B
-C47M

These engines are installed on, but not limited to, the aircraft listed in the following Table 2:

Table 2.—Engines Installed on, But Not Limited To
Manufacturer | Model
AeroSpace Technologies of Australia Pty Ltd | N22B, N22S, and N24A.
Agusta | A109, A109A, A109AII, and A109C.
Arrow Falcon Exporters | OH-58A, OH-58A+, and OH-58C.
Bell Helicopter Textron | 206A, 206A-1, 206B, 206L, 206L-1, 206L-3, 206L-4, 230, 407, and 430.
B-N Group | BN-2T and BN-2T-4R.
Enstrom Helicopter | TH28, 480; and 480B.
Eurocopter Canada Limited | BO 105 LS A-3.
Eurocopter Deutschland | BO-105A, BO-105C, BO-105LS A-1, and BO-105S.
Eurocopter France | AS355E, AS355F, AS355I, and AS355F2.
FH-1100 Manufacturing Corporation | 100, 420, and MX-7-420A.
Garlick Helicopters | OH-58A, OH-58A+, OH-58C; Maule zm-7-420A, MT-7-420, MX-7-420, MX-7-420A.
MD Helicopters Inc | 369, 369A, 369D, 369E, 369F, 369FF, 369H, 369HE, 369HM, 369HS, 500N, and 600N.
San Joaquin Helicopters | OH-58A, OH-58A+, and OH-58C.
Schweizer | TH269D.
SIAI Marchetti s.r.l | SF600 and SF600A.
Sikorsky Aircraft Corporation | S-76A.
Vulcanair S.p.A | AP68TP 300, and AP68TP 600.

Unsafe Condition

(d) This AD is prompted by the discovery that several part numbers (P/Ns) of fuel nozzles were inadvertently left out of AD 2004-24-09. That AD, as worded, allows certain P/N fuel nozzles back into service. Those fuel nozzles must not be allowed back into service. We are issuing this AD to minimize the risk of sudden loss of engine power and uncommanded shutdown of the engine due to fuel contamination and collapse of the screen in the fuel nozzle.

Compliance

(e) You are responsible for having the actions required by this AD performed within the compliance times specified unless the actions have already been done.

(f) Perform a onetime inspection of the screens in fuel nozzles as follows:

(1) For fuel nozzles with a P/N listed in Table 3 of this AD, inspect the screen for contamination within 50 operating hours after the effective date of this AD.

Table 3.—Fuel Nozzles To Be Inspected Within 50 Operating Hours
Manufacturer | P/N | Corresponding RRC vendor P/N
RRC | 6874959 6894610 6898531 | 5232815 5233465 5233585
Goodrich Delavan (Parts Manufacturer Approval (PMA)) | 47069 47101 49445 | N/A N/A N/A

(2) For fuel nozzles with a P/N listed in Table 4 of this AD, inspect the screen for contamination within 150 operating hours after January 5, 2005.

Table 4.—Fuel Nozzles To Be Inspected Within 150 Operating Hours
Manufacturer | P/N | Corresponding RRC vendor P/N
RRC | 6852020 6890917 6899001 | 5232480 5233333 5233600

(g) If you find contamination on the screen, inspect and clean the entire aircraft fuel system before further flight.

(h) At the next fuel nozzle overhaul after the effective date of this AD, do the following:

(1) Remove from service fuel nozzles listed in Table 3 and Table 4 of this AD.

(2) Replace with a serviceable fuel nozzle.

Definition

(i) For the purposes of this AD, a serviceable fuel nozzle is defined as a nozzle that has a P/N not specified in, or addressed by, this AD.

Previous Credit

(j) Previous credit is given for onetime inspections of fuel nozzles, RRC P/Ns 6852020, 6890917, and 6899001 using AD 2004-24-09.

Alternative Methods of Compliance

(k) The Manager, Chicago Aircraft Certification Office, has the authority to approve alternative methods of compliance for this AD if requested using the procedures found in 14 CFR 39.19.

Related Information

(l) Information related to the subject of this AD can be found in Rolls-Royce Corporation Alert Commercial Engine Bulletins (CEBs), all at Revision 1, and all dated August 30, 2004, listed in the following Table 5:

Table 5.—Related Alert Commercial Engine Bulletins
CEB-A-313 | CEB-A-73-5029
CEB-A-73-2075 | CEB-A-73-6041
CEB-A-1394 | TP CEB-A-183
CEB-A-73-3118 | TP CEB-A-1336
CEB-A-73-4056 | TP CEB-A-73-2032

Issued in Burlington, Massachusetts, on July 27, 2006.
Francis A. Favara,
Manager, Engine and Propeller Directorate, Aircraft Certification Service.

[FR Doc. E6-12420 Filed 8-2-06; 8:45 am]

BILLING CODE 4910-13-P